DEPARTMENT OF COMMERCE

Bureau of Industry and Security

15 CFR Parts 740, 742, 744 and 748

[Docket No. 06022180-6266-02]

RIN 0694-AD75

Revisions and Clarification of Export and Reexport Controls for the People's Republic of China (PRC); New Authorization Validated End-User

AGENCY: Bureau of Industry and Security, Commerce.

ACTION: Proposed rulemaking; extension of comment period.

SUMMARY: This notice extends the comment period on a July 6, 2006 proposed rule in which the Bureau of Industry and Security (BIS) proposed amending the Export Administration Regulations (EAR) to revise and clarify the United States' policy for exports and reexports of dual-use items to the People's Republic of China (PRC).

DATES: All comments on the proposed rule must be received by no later than December 4, 2006.

ADDRESSES: Written comments on this rule may be sent to the Federal eRulemaking Portal: http://www.regulations.gov, or by e-mail to publiccomments@bis.doc.gov. Include RIN 0694-AD75 in the subject line of the message. Comments may be submitted by mail or hand delivery to Sheila Quarterman, Office of Exporter Services, Regulatory Policy Division, Bureau of Industry and Security, Department of Commerce, 14th St. & Pennsylvania Avenue, NW., Room 2705, Washington, DC 20230, ATTN: RIN 0694-AD75; or by fax to (202) 482-3355.

FOR FURTHER INFORMATION CONTACT: For further information regarding this notice or the proposed rule, contact Sheila Quarterman, Office of Exporter Services, Regulatory Policy Division, by telephone at (202) 482-2440 or by fax at (202) 482-3355.

SUPPLEMENTARY INFORMATION: On July 6, 2006, the Bureau of Industry and Security (BIS) published a proposed rule in the Federal Register (71 FR 38313) that proposed amending the Export Administration Regulations (EAR) to revise and clarify the United States' policy for exports and reexports of dual-use items to the People's Republic of China (PRC). Specifically, the proposed rule states that it is the policy of the United States Government to prevent exports that would make a material contribution to the military capability of the PRC, while facilitating U.S. exports to legitimate civil end-users in the PRC. Consistent with this policy, BIS proposed to amend the EAR by revising and clarifying United States licensing requirements and licensing policy on exports and reexports of goods and technology to the PRC. The main amendments in the proposed rule include restrictions on certain exports and reexports for military end-uses in the PRC; a change in scope of end-user certificate requirement for the PRC; and a new Authorization Validated End-User (VEU).

The proposed rule indicated that the deadline for public comments closes on November 3, 2006. BIS is now extending the comment period until December 4, 2006, to allow the public more time to submit comments in light of discussions heard during the public meetings.

Dated: October 13, 2006.
Eileen Albanese,
Director, Office of Exporter Services.

[FR Doc. E6-17429 Filed 10-18-06; 8:45 am]

BILLING CODE 3510-33-P